DEPARTMENT OF LABOR

Employment and Training Administration

[TA-W-61,867]

Non-Metallic Components, Inc., Rib Lake, WI; Notice of Affirmative Determination Regarding Application for Reconsideration

By application postmarked October 17, 2007, the petitioner requested administrative reconsideration of the Department of Labor's Notice of Negative Determination Regarding Eligibility to Apply for Worker Adjustment Assistance, applicable to workers and former workers of the subject firm. The denial notice was signed on September 19, 2007 and published in the Federal Register on October 3, 2007 (72 FR 56385).

The initial investigation resulted in a negative determination based on the finding that imports of custom injection molded plastic parts did not contribute importantly to worker separations at the subject firm and no shift of production to a foreign source occurred.

In the request for reconsideration, the petitioner provided additional information regarding the subject firm's customer.

The Department has reviewed the workers' request for reconsideration and the existing record, and has determined that an administrative review is appropriate. Therefore, the Department will conduct further investigation to determine if the workers meet the eligibility requirements of the Trade Act of 1974.

Conclusion

After careful review of the application, I conclude that the claim is of sufficient weight to justify reconsideration of the Department of Labor's prior decision. The application is, therefore, granted.

Signed in Washington, DC, this 8th day of November, 2007.
Elliott S. Kushner,
Certifying Officer, Division of Trade Adjustment Assistance.

[FR Doc. E7-22408 Filed 11-15-07; 8:45 am]

BILLING CODE 4510-FN-P